DEPARTMENT OF TRANSPORTATION

Office of the Secretary

14 CFR Part 382

[Docket No. DOT-OST-2018-0068]

RIN No. 2105-AE63

Traveling by Air With Service Animals

AGENCY: Office of the Secretary (OST), U.S. Department of Transportation (DOT).

ACTION: Final rule; correcting amendment.

SUMMARY: The U.S. Department of Transportation (Department or DOT) published a final rule to amend the Department's Air Carrier Access Act (ACAA) regulation on the transport of service animals by air in the Federal Register on December 10, 2020. This document corrects the omission of an example in the applicability section of the rule text by adding it.

DATES: This correcting amendment is effective August 2, 2021.

FOR FURTHER INFORMATION CONTACT: Maegan Johnson, Senior Trial Attorney, Office of Aviation Consumer Protection, U.S. Department of Transportation, 1200 New Jersey Ave. SE, Washington, DC 20590, 202-366-9342, 202-366-7152 (fax), maegan.johnson@dot.gov (email). You may also contact Blane Workie, Assistant General Counsel, Office of Aviation Consumer Protection, Department of Transportation, 1200 New Jersey Ave. SE, Washington, DC 20590, 202-366-9342, 202-366-7152 (fax), blane.workie@dot.gov.

SUPPLEMENTARY INFORMATION: When the Department amended the applicability section, 14 CFR 382.7, of its ACAA regulation on the transport of service animals, it inadvertently failed to instruct the Federal Register to retain the example scenario that followed the regulatory text in 14 CFR 382.7(c). This document corrects this error by reinstating the example after the amended regulatory text in 14 CFR 382.7(c).

List of Subjects in 49 CFR Part 382

Air carriers, Civil rights, Consumer protection, Individuals with disabilities, Reporting and recordkeeping requirements.

Accordingly, the Department of Transportation is amending 14 CFR part 382 by making the following correcting amendment:

PART 382—NONDISCRIMINATION ON THE BASIS OF DISABILITY IN AIR TRAVEL

1. The authority citation for part 382 continues to read as follows:

Authority: 49 U.S.C. 41705.

2. In § 382.7 amend paragraph (c) by adding example 1 to paragraph (c) to read as follows:

§ 382.7 To whom do the provisions of this part apply?

* * * * *

(c) * * *

Example 1 to paragraph (c): A passenger buys a ticket from a U.S. carrier for a journey from New York to Prague. The ticket carries the U.S. carrier's code and flight number throughout the entire journey. There is a change of carrier and aircraft in Frankfurt, and a foreign carrier operates the Frankfurt-Prague segment. The foreign carrier is not subject to the provisions of Part 382 for the Frankfurt-Prague segment. However, the U.S. carrier must ensure compliance with the applicable provisions of Part 382 on the Frankfurt-Prague segment with respect to passengers flying under its code, and the Department could take enforcement action against the U.S. carrier for acts or omissions by the foreign carrier.

* * * * *

Dated: July 26, 2021.
Issued under authority delegated in 49 CFR 1.27(n).
John E. Putnam,
Acting General Counsel.

[FR Doc. 2021-16194 Filed 7-30-21; 8:45 am]

BILLING CODE 4910-9X-P